DEPARTMENT OF JUSTICE

Notice of Lodging of Consent Decree Pursuant to the Comprehensive Environmental Response, Compensation and Liability Act

In accordance with Department policy, 28 C.F.C. § 50.7, 38 Fed. Reg. 19029, and 42 U.S.C. § 9622(d), on October 26 1999 (64 Fed. Reg. 576), notice was given that a proposed consent decree in United States v. General Electric Company, Civil Action No. 99-30225-MAP, was lodged with the United States District Court for the District of Massachusetts. The proposed consent decree resolves certain claims against General Electric Company (“GE”) under Sections 106 and 107 of the Comprehensive Environmental Response, Compensation, and Liability Act (“CERCLA”), 42 U.S.C. §§ 9606 and 9607; Section 7003 of the Resource Conservation and Recovery Act (“RCRA”), 42 U.S.C. § 6973; and Section 309 of the Clean Water Act, 33 U.S.C. § 1319, regarding the disposal, release and/or threat of release of hazardous substances and/or wastes from the GE facility in Pittsfield, Massachusetts and related areas.

Pursuant to requests from interested persons, the Department of Justice extended the period for comments relating to the proposed consent decree to January 25, 2000. 64 Fed. Reg. 68374 (December 7, 1999). The Department of Justice is extending the comment period on final time to and including February 23, 2000. Comments should be addressed to the Assistant Attorney General of the Environment and Natural Resources Division, Department of Justice, Washington, DC 20530, and should refer to United States v. General Electric Company, Civil Action No. 99-30225-MAP, D.J. Ref. 90-11-3-1479, and 90-11-3-1479z.

The proposed consent decree may be examined at either of the following locations: (1) The Springfield Office of the United States Attorney, District of Massachusetts, 1550 Main Street, Suite 310, Springfield, Massachusetts, 01103; or (2) Region I, Office of the Environmental Protection Agency, One Congress Street, Boston, Massachusetts, 02203. A copy of the consent decree can be obtained by mail (without attachments) from the Department of Justice Consent Decree Library, P.O. Box 7611, Washington, DC 20044. In requesting a copy of the consent decree (without attachments), please enclose a check in the amount of $102.25 (25 cents per page reproduction cost) payable to the Consent Decree Library.

Joel Gross,
Chief, Environmental Enforcement Section, Environment and Natural Resources Division.

[FR Doc. 00-1878 Filed 1-26-00; 8:45 am]

BILLING CODE 4410-15-M